SOCIAL SECURITY ADMINISTRATION

[Docket No. SSA-2009-0001]

Occupational Information Development Advisory Panel Meeting

AGENCY: Social Security Administration (SSA).

ACTION: Notice of Inaugural Meeting.

DATES: February 23, 2009, 8:30 a.m.-4:30 p.m. (EST); February 24, 2009, 8:30 a.m.-5 p.m. (EST); February 25, 2009, 8:30 a.m.-12 p.m. (EST)

Location: Sheraton Crystal City Hotel.

ADDRESSES: 1800 Jefferson Davis Highway, Arlington, VA 22202.

SUPPLEMENTARY INFORMATION: Type of Meeting: The meeting is open to the public.

Purpose: This discretionary Panel, established under the Federal Advisory Committee Act of 1972, as amended, shall report to the Commissioner of Social Security. The Panel will provide independent advice and recommendations on plans and activities to replace the Dictionary of Occupational Titles used in the Social Security Administration's (SSA) disability determination process. The Panel will advise the Agency on creating an occupational information system tailored specifically for SSA's disability programs and adjudicative needs. Advice and recommendations will relate to SSA's disability programs in the following areas: medical and vocational analysis of disability claims; occupational analysis, including definitions, ratings and capture of physical and mental/cognitive demands of work and other occupational information critical to SSA disability programs; data collection; use of occupational information in SSA's disability programs; and any other area(s) that would enable SSA to develop an occupational information system suited to its disability programs and improve the medical-vocational adjudication policies and processes.

Agenda: The Panel will meet on Monday, February 23, 2009, from 8:30 a.m.until 4:30 p.m. (EST); Tuesday, February 24, 2009, from 8:30 a.m. until 5 p.m. (EST) and Wednesday, February 25, 2009, from 8:30 a.m. to 12 p.m. (EST). The agenda will be available on the Internet at http://www.socialsecurity.gov/oidap/ one week prior to the meeting.

The Panel will hear presentations on a variety of issues including: a general overview of the Agency's policy, procedures and business practices as they relate to the use of the Dictionary of Occupational Titles in the disability programs; a summary of agency concerns and questions about its occupational information needs; and, an overview of the disability determination process. The Panel will also deliberate on issues presented and discuss its organization and operating procedures. The Panel will determine dates and identify tentative agenda items for future Panel meetings. The Panel will not hear public comment during the Inaugural Meeting. You may submit public comment in writing at any time in (not to exceed five pages) to the Panel address below.

Individuals who need special accommodation in order to attend the meeting (e.g., sign language services, assistive listening devices, or materials in alternative formats such as large print or CD) should notify Debra Tidwell-Peters via e-mail to debra.tidwell-peters@ssa.gov or by telephone at 410-965-9617, no later than February 9, 2009. SSA will attempt to meet requests made but cannot guarantee availability of services. All meeting locations are barrier free.

Contact Information: Records of all public Panel proceedings are maintained and available for inspection. Anyone requiring further information should contact the Panel staff at: Occupational Information Development Advisory Panel, Social Security Administration, 6401 Security Boulevard, 3-E-26 Operations, Baltimore, MD 21235-0001. Telephone: 410-965-9617. Fax: 410-597-0825. For additional information, please visit the Panel Web site at http://www.socialsecurity.gov/oidap.

Debra Tidwell-Peters,
Designated Federal Officer, Occupational Information Development Advisory Panel.

[FR Doc. E9-950 Filed 1-16-09; 8:45 am]

BILLING CODE 4191-02-P